DEPARTMENT OF HOMELAND SECURITY

Customs and Border Protection

Revocation of Customs Broker Licenses

AGENCY: U.S. Customs and Border Protection, U.S. Department of Homeland Security.

ACTION: General notice.

SUMMARY: Pursuant to section 641 of the Tariff Act of 1930, as amended, (19 U.S.C. 1641) and the U.S. Customs and Border Protection regulations (19 CFR 111.51(b)), the following Customs broker licenses and all associated permits are revoked with prejudice.

Name | License No. | Issuing port
Antonio Gonzalez | 14309 | San Diego.
A. Gonzalez, Inc | 16076 | San Diego.

Dated: October 17, 2011.
Richard F. DiNucci,
Acting Assistant Commissioner, Office of International Trade.

[FR Doc. 2011-27410 Filed 10-21-11; 8:45 am]

BILLING CODE 9111-14-P